DEPARTMENT OF ENERGY

Federal Energy Regulatory Commission

Combined Notice of Filings #1

Take notice that the Commission received the following electric rate filings:

Docket Numbers: ER18-1639-009.

Applicants: Constellation Mystic Power, LLC.

Description: Compliance filing: Fourth Compliance Filing to be effective 6/1/2022.

Filed Date: 6/2/21.

Accession Number: 20210602-5098.

Comments Due: 5 p.m. ET 6/23/21.

Docket Numbers: ER19-2716-001; ER19-1398-001; ER19-2717-001; ER20-1399-001.

Applicants: Madison BTM, LLC, Madison ESS, LLC, Rumford ESS, LLC, Ocean State BTM, LLC.

Description: Notice of Change in Status of Madison BTM, LLC, et al.

Filed Date: 6/1/21.

Accession Number: 20210601-5382.

Comments Due: 5 p.m. ET 6/22/21.

Docket Numbers: ER20-1150-002.

Applicants: The Dayton Power and Light Company, PJM Interconnection, L.L.C.

Description: Revised Refund Report of Dayton Power and Light Company.

Filed Date: 6/1/21.

Accession Number: 20210601-5388.

Comments Due: 5 p.m. ET 6/22/21.

Docket Numbers: ER20-2288-001.

Applicants: Tatanka Ridge Wind, LLC.

Description: Tatanka Ridge Wind, LLC submits Supplemental Information re Notice of Non-Material Change in Status.

Filed Date: 5/12/21.

Accession Number: 20210512-5074.

Comments Due: 5 p.m. ET 6/23/21.

Docket Numbers: ER21-2051-000.

Applicants: Tri-State Generation and Transmission Association, Inc.

Description: Tariff Cancellation: Notice of Cancellation of Service Agreement Nos. 801 and 802 (Final) to be effective 12/31/9998.

Filed Date: 6/1/21.

Accession Number: 20210601-5260.

Comments Due: 5 p.m. ET 6/22/21.

Docket Numbers: ER21-2052-000.

Applicants: PJM Interconnection, L.L.C.

Description: § 205(d) Rate Filing: Original WMPA, Service Agreement No. 6081; Queue No. AF2-246 to be effective 5/4/2021.

Filed Date: 6/2/21.

Accession Number: 20210602-5004.

Comments Due: 5 p.m. ET 6/23/21.

Docket Numbers: ER21-2053-000.

Applicants: ITC Midwest LLC.

Description: MISO Schedule 50 Cost Recovery Filing of ITC Midwest, LLC.

Filed Date: 6/1/21.

Accession Number: 20210601-5368.

Comments Due: 5 p.m. ET 6/22/21.

Docket Numbers: ER21-2054-000.

Applicants: ITC Midwest LLC.

Description: MISO Schedule 50 Cost Recovery Filing of ITC Midwest, LLC.

Filed Date: 6/1/21.

Accession Number: 20210601-5369.

Comments Due: 5 p.m. ET 6/22/21.

Docket Numbers: ER21-2055-000.

Applicants: ITC Midwest LLC.

Description: MISO Schedule 50 Cost Recovery Filing of ITC Midwest, LLC.

Filed Date: 6/1/21.

Accession Number: 20210601-5370.

Comments Due: 5 p.m. ET 6/22/21.

Docket Numbers: ER21-2056-000.

Applicants: ITC Midwest LLC.

Description: MISO Schedule 50 Cost Recovery Filing of ITC Midwest, LLC.

Filed Date: 6/1/21.

Accession Number: 20210601-5371.

Comments Due: 5 p.m. ET 6/22/21.

Docket Numbers: ER21-2057-000.

Applicants: ITC Midwest LLC.

Description: MISO Schedule 50 Cost Recovery Filing of ITC Midwest, LLC.

Filed Date: 6/1/21.

Accession Number: 20210601-5372.

Comments Due: 5 p.m. ET 6/22/21.

Docket Numbers: ER21-2058-000.

Applicants: Michigan Electric Transmission Company LLC.

Description: MISO Schedule 50 Cost Recovery Filing of Michigan Electric Transmission Company, LLC.

Filed Date: 6/1/21.

Accession Number: 20210601-5373.

Comments Due: 5 p.m. ET 6/22/21.

Docket Numbers: ER21-2059-000.

Applicants: ITC Midwest LLC.

Description: MISO Schedule 50 Cost Recovery Filing of ITC Midwest, LLC.

Filed Date: 6/1/21.

Accession Number: 20210601-5374.

Comments Due: 5 p.m. ET 6/22/21.

Docket Numbers: ER21-2060-000.

Applicants: Duke Energy Ohio, Inc., PJM Interconnection, L.L.C.

Description: § 205(d) Rate Filing: Duke Ohio submits Interconnection Agreement, SA No. 3141 with EKPC to be effective 5/3/2021.

Filed Date: 6/2/21.

Accession Number: 20210602-5036.

Comments Due: 5 p.m. ET 6/23/21.

Docket Numbers: ER21-2061-000.

Applicants: Northern Indiana Public Service Company.

Description: § 205(d) Rate Filing: Filing of a CIAC Agreement to be effective 6/1/2021.

Filed Date: 6/2/21.

Accession Number: 20210602-5084.

Comments Due: 5 p.m. ET 6/23/21.

Docket Numbers: ER21-2062-000.

Applicants: Alabama Power Company.

Description: Tariff Cancellation: Raven Solar Development (Wilcox Solar) LGIA Termination Filing to be effective 6/2/2021.

Filed Date: 6/2/21.

Accession Number: 20210602-5105.

Comments Due: 5 p.m. ET 6/23/21.

Docket Numbers: ER21-2063-000.

Applicants: Alabama Power Company.

Description: Tariff Cancellation: Raven Solar Development (Taylor Solar) LGIA Termination Filing to be effective 6/2/2021.

Filed Date: 6/2/21.

Accession Number: 20210602-5106.

Comments Due: 5 p.m. ET 6/23/21.

Take notice that the Commission received the following electric reliability filings:

Docket Numbers: RR21-5-000.

Applicants: North American Electric Reliability Corporation.

Description: North American Electric Reliability Corporation's Report of Comparisons of Budgeted to Actual Costs for 2020 for NERC and the Regional Entities.

Filed Date: 6/1/21.

Accession Number: 20210601-5381.

Comments Due: 5 p.m. ET 6/22/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 2, 2021.
Debbie-Anne A. Reese,
Deputy Secretary.

[FR Doc. 2021-11993 Filed 6-7-21; 8:45 am]

BILLING CODE 6717-01-P